DEPARTMENT OF TRANSPORTATION

Federal Motor Carrier Safety Administration

[Docket No. FMCSA-2006-25756]

Commercial Driver's License (CDL) Standards; Volvo Trucks North America, Inc.'s Exemption Application

AGENCY: Federal Motor Carrier Safety Administration (FMCSA), DOT.

ACTION: Notice of final disposition; granting of application for exemption.

SUMMARY: FMCSA announces its decision to grant Volvo Trucks North America, Inc.'s (Volvo) application for an exemption for two Volvo drivers to drive commercial motor vehicles (CMVs) in the United States without possessing the requisite CDL issued by one of the States. Magnus Ericsson and Conny Harlin are part of a team of Volvo engineers and technicians test-driving Volvo prototype CMVs in U.S. environments. Each of these drivers holds a valid Swedish CDL but lacks the U.S. residency necessary to obtain a CDL issued by one of the States of the U.S. FMCSA believes the rigorous training and testing that drivers must undergo to obtain a Swedish CDL, and the excellent safety record of both of these drivers, ensure that these drivers will likely achieve a level of safety that is equivalent to, or greater than, the level of safety that would be obtained in the absence of the exemption.

DATES: This exemption is effective April 16, 2010 and expires on April 16, 2012.

FOR FURTHER INFORMATION CONTACT: Mr. Robert Schultz, Driver and Carrier Operations Division, Office of Bus and Truck Standards and Operations, MC-PSD, Federal Motor Carrier Safety Administration, 1200 New Jersey Avenue, SE., Washington, DC 20590. Telephone: 202-366-4325. E-mail: MCPSD@dot.gov.

SUPPLEMENTARY INFORMATION:

Background

Under 49 U.S.C. 31315 and 31136(e), FMCSA may grant an exemption from certain Federal Motor Carrier Safety Regulations (FMCSRs) (49 CFR part 350 et seq.) for up to 2 years. The Agency must find that the exemption will allow the applicant to implement more effective or efficient operations and “would likely achieve a level of safety that is equivalent to, or greater than, the level that would be achieved absent such exemption” (49 CFR 381.305(a)). Exemptions are renewable.

The FMCSA has granted comparable exemptions for Volvo drivers in the past. The most recent Agency notice of final disposition was published on May 5, 2009, granting exemption for the same purpose to seven Volvo drivers with Swedish CDLs (74 FR 20778).

Volvo Application for Exemption

Volvo applied for exemption for drivers Magnus Ericsson and Conny Harlin from 49 CFR 383.23 of the CDL rules, requiring drivers operating CMVs to have a CDL issued by one of the States. A copy of the request for exemption is in the docket identified at the beginning of this notice. This exemption is necessary for these drivers to be qualified to drive CMVs in the United States. The Volvo CMVs in question are assembled, sold or primarily used in the United States, and must be subjected to various field tests in this country before being placed on the U.S. market. The tests are conducted by Volvo engineers and technicians at Volvo's U.S. test site and on public roads in the vicinity of Phoenix, Arizona. The vehicle safety and performance data drawn from the test-driving is a critical component of the overall evaluation of a prototype.

Section 383.21 requires drivers of CMVs in the United States to have a CDL issued by a State. Ericsson and Harlin are citizens and residents of Sweden. Only residents of a State can apply for a CDL,¹ so Ericsson and Harlin cannot apply for a CDL in this country. Without the exemption, Ericsson and Harlin would not be able to test-drive Volvo prototype CMVs on U.S. roads.

¹ Although 49 CFR 383.23 indicates that these drivers could obtain a Nonresident CDL, few States—if any—are currently issuing Nonresident CDLs.

Ericsson and Harlin hold Swedish CDLs and are experienced operators of CMVs. In addition, Volvo submitted documentation showing that the Swedish driving records of both Ericsson and Harlin are free of violations.

Method To Ensure an Equivalent or Greater Level of Safety

According to Volvo, drivers applying for a Swedish-issued CDL must undergo a training program and must pass knowledge and skills tests. Volvo believes that the rigor of this process ensures that this exemption will likely provide a level of safety that is equivalent to, or greater than, the level of safety obtained by complying with the U.S. requirement for a CDL. FMCSA has previously determined that the process for obtaining a CDL in Sweden adequately assesses the driver's ability to operate CMVs in the U.S., and is comparable to, or as effective as, the process for obtaining a CDL issued by a State.

Comments

No comments were received in response to an FMCSA notice of this application and request for comments, published on January 19, 2010 (75 FR 2921).

FMCSA Decision

Based upon the merits of this application, including the extensive driving experience and unblemished safety records of Magnus Ericsson and Conny Harlin, and the rigorous training and testing each successfully completed to obtain a Swedish CDL, FMCSA concluded that the exemption would likely achieve a level of safety that is equivalent to, or greater than, the level that would be achieved absent such exemption, in accordance with 381.305(a). On April 16, 2010, FMCSA granted an exemption from 49 CFR 383.23 to Volvo drivers Magnus Ericsson and Conny Harlin for the period from April 16, 2010 through April 16, 2012.

Terms and Conditions for the Exemption

FMCSA granted Volvo an exemption from the Federal CDL requirement in 49 CFR 383.23 to allow Ericsson and Harlin to drive CMVs in the U.S., subject to the following terms and conditions:

(1) That the drivers are subject to drug and alcohol regulations, including testing, as provided in 49 CFR part 382, (2) that the drivers are subject to the same driver disqualification rules under 49 CFR parts 383 and 391 that apply to other CMV drivers in the U.S., (3) that the drivers keep a copy of the exemption on the vehicle at all times, (4) that Volvo notify FMCSA in writing of any accident, as defined in 49 CFR 390.5, involving one or both of these drivers, and (5) that Volvo notify FMCSA in writing if either driver is convicted of a disqualifying offense under section 383.51 or section 391.15 of the FMCSRs.

In accordance with 49 U.S.C. 31315 and 31136(e), the exemption will be valid for 2 years unless revoked earlier by the FMCSA. The exemption will be revoked if: (1) An exempted driver fails to comply with the terms and conditions of the exemption; (2) the exemption results in a lower level of safety than was maintained before it was granted; or (3) continuation of the exemption would be inconsistent with the goals and objectives of 49 U.S.C. 31315 and 31136.

Issued on: May 28, 2010.
Larry W. Minor,
Associate Administrator for Policy and Program Development.

[FR Doc. 2010-14270 Filed 6-11-10; 8:45 am]

BILLING CODE 4910-EX-P